DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain copy of the data collection plans and draft instruments, call the HRSA Reports Clearance Officer on (301) 443-1129.

Comments are invited on: (a) Whether the proposed collection of information is necessary for the proper performance of the functions of the agency, including whether the information shall have practical utility; (b) the accuracy of the agency's estimate of the burden on the proposed collection of information; (c) ways to enhance the quality, utility, and clarity of the information to be collected; and (d) ways to minimize the burden of the collection of information on respondents, including through the use of automated collection techniques or other forms of information technology.

Proposed Project: AIDS Drug Assistance Program (ADAP): ADAP Monthly Client Utilization and Program Expenditures Report (OMB No. 0915-0219)—Extension

The Division of Service Systems (DSS)/Health Resources and Services Administration (HRSA) collects aggregated information on the number of clients being served by ADAPs, monthly expenditures by State ADAPs, and the purchase price of HIV/AIDS medications. State AIDS Drug Assistance Program (ADAPs), funded under the Title II of the Ryan White Comprehensive AIDS Resource Emergency (CARE) Act Amendments of 1996 and 2000. (Pub. L. 104-146), are designed to provide low income, uninsured, and underinsured individuals with access to HIV/AIDS medication that prevent serious deterioration of health arising from HIV disease, including the prevention and treatment of opportunistic infections.

During the last several years, there has been an increasing need for pharmaceuticals among uninsured and underinsured low income individuals who are HIV positive or diagnosed with AIDS. Due to the increasing demand, DSS/HRSA recognizes the importance of program planning and budget forecasting in order to maximize resources, and proposes to extend the current data collection from to collect relevant and client utilization data and program expenditure information from State ADAPs. This data collection effort is designed to allow DSS/HRSA (the funding agency) to continue monitoring nationwide trends in program growth, client utilization, expenditures and to assess the capacity of State ADAPs to maintain client services for clients throughout the fiscal year. The form will improve DSS/HRSA's ability to track the prices of HIV/AIDS drugs in order to ensure that State ADAPs are receiving the best price possible, to identify emerging issues and technical assistance needs and to share information among State ADAPs. It will also assist Title II grantees, State ADAPs, DSS/HRSA staff and policymakers at both the Federal and State level to understand the level of client demand for medications and the resources needed to meet those needs.

This report will collect time-specific data for the number of enrolled clients, the number of new clients, and the number of utilizing clients, the level of funds expended, and the price of HIV/AIDS drugs. A text box is provided to allow State ADAPs to report significant changes to their program, such as project budget shortfall, program restrictions, client waiting lists, a change in eligibility criteria, or formulary charges. On a quarterly basis, State ADAPs will report the purchase price paid on a select number of HIV pharmaceuticals dispensed by each program. DSS/HRSA will continue to compile summary reports that are distributed back to grantees and State ADAPs on a quarterly basis. The data collected is used to guide program planning, formulate budget recommendations, and monitor State ADAPs, especially monitoring the balance between an individual State ADAPs available resources against the client demand for medications. The burden estimates are as follows:

HRSA forms title II ADAP grantees | Number of respondents | Responses for respondent | Total responses | Hour per responses | Total burden hours
Client and Expenditures | 54 | 12 | 648 | 0.75 | 486
Drug Pricing | 54 | 4 | 216 | 0.75 | 162
Total | 54 |  | 864 |  | 648

Send comments to Susan G. Queen, Ph.D, HRSA Reports Clearance Officer, Room 14-45, Parklawn Building, 5600 Fishers Lane, Rockville MD 20857. Written comments should be received within 60 days of this notice.

Dated: April 23, 2003.
Jane M. Harrison,
Director, Division of Policy Review and Coordination.

[FR Doc. 03-10877 Filed 5-1-03; 8:45 am]

BILLING CODE 4165-15-M